DEPARTMENT OF COMMERCE

National Oceanic and Atmospheric Administration

RIN 0648-XA179

Endangered Species; File No. 14726

AGENCY: National Marine Fisheries Service (NMFS), National Oceanic and Atmospheric Administration (NOAA), Commerce.

ACTION: Notice; receipt of application for a permit modification.

SUMMARY: Notice is hereby given that Blair Witherington, Ph.D., Florida Fish and Wildlife Conservation Commission, 9700 South A1A, Melbourne Beach, FL, 32951, has requested a modification to scientific research Permit No. 14726-01.

DATES: Written, telefaxed, or email comments must be received on or before October 18, 2013.

ADDRESSES: The modification request and related documents are available for review by selecting “Records Open for Public Comment” from the Features box on the Applications and Permits for Protected Species (APPS) home page, https://apps.nmfs.noaa.gov, and then selecting File No. 14726 from the list of available applications. These documents are also available upon written request or by appointment in the following offices:

Permits and Conservation Division, Office of Protected Resources, NMFS, 1315 East-West Highway, Room 13705, Silver Spring, MD 20910; phone (301)427-8401; fax (301)713-0376; and

Southeast Region, NMFS, 263 13th Ave South, St. Petersburg, FL 33701; phone (727)824-5312; fax (727)824-5309.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Rosa L. González, (301)427-8401.

SUPPLEMENTARY INFORMATION: The subject modification to Permit No. 14726-01, issued on April 7, 2011 (76 FR 30309) is requested under the authority of the Endangered Species Act of 1973, as amended (16 U.S.C. 1531 et seq.) and the regulations governing the taking, importing, and exporting of endangered and threatened species (50 CFR 222-226).

Permit No. 14726-01 authorizes the permit holder to locate and describe areas of the Atlantic Ocean and Gulf of Mexico near Florida that serve as developmental habitat for pelagic-stage juvenile and neonate loggerhead (Caretta caretta), green (Chelonia mydas), Kemp's ridley (Lepidochelys kempii), hawksbill (Eretmochelys imbricata), and leatherback (Dermochelys coriacea) sea turtles, to quantify threats to pelagic sea turtles, and to gather information on their life-history, genetics, movements, behavior, and diet. Researchers are authorized to capture by dip net, flipper and passive integrated transponder tag, measure, weigh, and oral swab sea turtles. A subset of animals may be skin biopsied, fecal sampled, lavaged or have a satellite tag attached. The permit holder requests authorization to (1) expand the action area to the Gulf of Mexico; (2) modify the method for satellite tag attachments; (3) change the sea turtle species, life stages, and number of animals that may be biologically sampled and satellite tagged; (4) add scute and blood sampling to the suite of procedures that can be performed on captured sea turtles; and (5) conduct vessel surveys for counts of leatherback and loggerhead sea turtles. Genetic and stable isotope analyses from this sampling would help Dr. Witherington determine the trophic history of pelagic neonate and neritic stage loggerhead sea turtles and assign a source rookery to these turtles. Satellite telemetry with the trophic histories would further describe the sea turtles' home range, habitat use, residency and intersection with fisheries.

Dated: September 12, 2013.
P. Michael Payne,
Chief, Permits and Conservation Division, Office of Protected Resources, National Marine Fisheries Service.

[FR Doc. 2013-22609 Filed 9-17-13; 8:45 am]

BILLING CODE 3510-22-P